FEDERAL TRADE COMMISSION

Granting of Request for Early Termination of the Waiting Period Under the Premerger Notification Rules

Section 7A of the Clayton Act, 15 U.S.C. § 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

20151508 | G | Envision Healthcare Holdings, Inc.; WP Rocket Holdings Inc.; Envision Healthcare Holdings, Inc.
10/02/2015
20151506 | G | Sensata Technologies Holding N.V.; Custom Sensors & Technologies Topco Ltd.; Sensata Technologies Holding N.V.
20151737 | G | GSO Special Situations Fund L.P.; Upstate New York Power Producers, Inc.; GSO Special Situations Fund L.P.
20151739 | G | B&G Foods, Inc.; General Mills, Inc.; B&G Foods, Inc.
20151740 | Y | Agilent Technologies, Inc.; Seahorse Bioscience, Inc.; Agilent Technologies, Inc.
20151751 | G | Parthenon Investors IV, L.P.; Millennium Trust Company, LLC; Parthenon Investors IV, L.P.
20151760 | G | Omron Corporation; Adept Technology, Inc.; Omron Corporation.
20151764 | G | Chih-Yaung Chu; MAG IAS Holdings, Inc.; Chih-Yaung Chu.
20151775 | G | Roger S. Penske; R. Jerry Nelson; Roger S. Penske.
20151776 | G | Roger S. Penske; Philip C. Schneider, Jr.; Roger S. Penske.
20151779 | G | Dr. Ge Li; WuXi PharmaTech (Cayman) Inc.; Dr. Ge Li.
20151780 | G | Investor AB; The Braun Corporation; Investor AB.
20151782 | G | Phillips 66; DCP Southern Hills Pipeline, LLC; Phillips 66.
20151783 | G | Phillips 66; DCP Sand Hills Pipeline, LLC; Phillips 66.
20151787 | G | Audax Private Equity Fund IV, L.P.; CPC Holdco, Inc.; Audax Private Equity Fund IV, L.P.
10/05/2015
20151671 | Y | Medivation, Inc.; BioMarin Pharmaceutical, Inc.; Medivation, Inc.
20151761 | G | Valeant Pharmaceuticals International, Inc.; Synergetics USA, Inc.; Valeant Pharmaceuticals International, Inc.
20151792 | G | GlaxoSmithKline plc; Theravance Biopharma, Inc.; GlaxoSmithKline plc.
10/06/2015
20151699 | Y | Greatbatch, Inc.; KKR Millennium Fund L.P.; Greatbatch, Inc.
20151762 | G | Telefonaktiebolaget LM Ericsson; Envivio, Inc.; Telefonaktiebolaget LM Ericsson.
10/07/2015
20151716 | G | Amazon.com, Inc.; Elemental Technologies, Inc.; Amazon.com, Inc.
20151726 | G | GTT Communications, Inc.; One Source Networks Inc.; GTT Communications, Inc.
20151774 | G | Pangea Private Holdings I, LLC; Premiere Global Services, Inc.; Pangea Private Holdings I, LLC.
10/08/2015
20151753 | Y | Allergan plc; AqueSys, Inc.; Allergan plc.
20151763 | Y | Amgen Inc.; Forbion Capital Fund II C.V.; Amgen Inc.
20151735 | G | Lannett Company, Inc.; UCB S.A.; Lannett Company, Inc.
20151745 | G | Blackstone Capital Partners VI NQ/NF L.P.; Glenn B. Stearns; Blackstone Capital Partners VI NQ/NF L.P.
20151749 | G | Deutsche Telekom AG; AT&T Inc.; Deutsche Telekom AG.
20151750 | G | AT&T Inc.; Deutsche Telekom AG; AT&T Inc.
20151771 | G | Vista Equity Partners Fund V, L.P.; Solera Holdings, Inc.; Vista Equity Partners Fund V, L.P.
20151788 | G | John B. Poindexter; LLR Equity Partners II, L.P.; John B. Poindexter.
20151794 | G | Korn/Ferry International; HG (Bermuda) Limited; Korn/Ferry International.
20151799 | G | Autoliv, Inc.; Nissin Kogyo Co., Ltd.; Autoliv, Inc.
20151801 | G | Cabot Microelectronics Corporation; NexPlanar Corporation; Cabot Microelectronics Corporation.
20151808 | G | Cevian Capital II G.P. Limited; Platform Specialty Products Corporation; Cevian Capital II G.P. Limited.
20151809 | G | Longleaf Partners Funds Trust; Actuant Corporation; Longleaf Partners Funds Trust.
20160002 | G | Caterpillar Inc.; Amsted Industries Incorporated; Caterpillar Inc.
20160013 | G | Tailwind Capital Partners II, L.P.; AEA Small Business Fund L.P.; Tailwind Capital Partners II, L.P.
10/13/2015
20151711 | G | BlackBerry Limited; Good Technology Corporation; BlackBerry Limited.
20151741 | G | Accenture plc; Declarative Holdings Inc. (“DHI”); Accenture plc.
20151742 | G | Archer-Daniels-Midland Company; Linsalata Capital Partners Fund V, L.P.; Archer-Daniels-Midland Company.
20151757 | G | Abrams Capital Partners II, L.P.; Barnes & Noble Education, Inc.; Abrams Capital Partners II, L.P.
20151758 | G | Abrams Capital Partners II, L.P.; Barnes & Noble, Inc.; Abrams Capital Partners II, L.P.
20151769 | G | Molina Healthcare, Inc.; The Providence Service Corporation; Molina Healthcare, Inc.
20160014 | G | 1883247 Ontario Inc.; Kenneth L. Nelson; 1883247 Ontario Inc.
20160017 | G | SandRidge Energy Inc.; EIG Pecos Midstream, LLC; SandRidge Energy Inc.
20160021 | G | FS Equity Partners VII, L.P.; Regent Holding Company, LLC; FS Equity Partners VII, L.P.
10/14/2015
20151717 | G | Coca-Cola Bottling Company United, Inc.; The Coca-Cola Company; Coca-Cola Bottling Company United, Inc.
20151778 | G | J. Frank Harrison, III; The Coca-Cola Company; J. Frank Harrison, III.
20160003 | G | Windjammer Senior Equity Fund IV, L.P.; The Resolute Fund II, L.P.; Windjammer Senior Equity Fund IV, L.P.
20160006 | G | Eugenie Patri Sebastien EPS, SA; Custom California Craft Beer, LLC; Eugenie Patri Sebastien EPS, SA.
20160007 | G | Jorge Paulo Lemann; Custom California Craft Beer, LLC; Jorge Paulo Lemann.
20160008 | G | Symrise AG; Pinova Holdings, Inc.; Symrise AG.
20160015 | G | Charlesbank Equity Fund VIII, Limited Partnership; DGD Group, Inc.; Charlesbank Equity Fund VIII, Limited Partnership.
20160016 | G | AltaGas Ltd.; GWF Energy Holdings LLC; AltaGas Ltd.
20151772 | G | Marcato, L.P.; LPL Financial Holdings Inc.; Marcato, L.P.
20151773 | G | Marcato International Ltd.; LPL Financial Holdings Inc.; Marcato International Ltd.
20151790 | G | Roper Technologies, Inc.; Madison Dearborn Capital Partners VI-A, L.P.; Roper Technologies, Inc.
20151796 | G | Deluxe Corporation; Halyard Capital Fund II, L.P.; Deluxe Corporation.
20160004 | Y | Palmetto Health; Tuomey d/b/a Tuomey Healthcare System; Palmetto Health.
10/19/2015
20151743 | G | Navient Corporation; Xtend Holdco, LLC; Navient Corporation.
20151802 | G | John B. Hess; Hess Corporation; John B. Hess.
20160011 | G | TCO Holdings Inc.; Sulzer AG; TCO Holdings Inc.
20160026 | G | HAL Trust; Philip Wolman; HAL Trust.
20160036 | G | Terry Taylor; Swope Holdings, LLC; Terry Taylor.
20160040 | G | CCMP Capital Investors III, L.P.; AEA Investors 2006 Fund L.P.; CCMP Capital Investors III, L.P.
20160043 | G | TL Lighting Holdings, LLC; Truck-Lite Co., LLC; TL Lighting Holdings, LLC.
20160044 | G | Newell Rubbermaid Inc.; The Berwind Company LLC; Newell Rubbermaid Inc.
20160045 | G | New Litor Limited; Skalli Corporation; New Litor Limited.
20160057 | G | ACON Funko Investors I, L.L.C.; Fundamental Capital, LLC; ACON Funko Investors I, L.L.C.
10/20/2015
20160018 | G | Vitol Investment Partnership Limited; Petroliam Nasional Berhad; Vitol Investment Partnership Limited.
20160025 | G | Vitol Investment Partnership Limited; Vitol Holding B.V.; Vitol Investment Partnership Limited.
20160039 | G | Sprint Co-Invest, L.P.; Walgreens Boots Alliance, Inc.; Sprint Co-Invest, L.P.
20160058 | G | Paddy Power plc; Betfair Group plc; Paddy Power plc.
10/21/2015
20160041 | G | PSPLUX S.a.r.l; Grupo Isolux Corsan, S.A.; PSPLUX S.a.r.l.
20160048 | G | Terraform Private II, LLC; Michael Polsky; Terraform Private II, LLC.
10/22/2015
20160022 | G | Meggitt PLC; Greenbriar Equity Fund II, L.P.; Meggitt PLC.
20151768 | G | KPCB Green Growth Fund, LLC; Clean Power Finance, Inc.; KPCB Green Growth Fund, LLC.
20160010 | G | Dr. h.c. Friede Springer; Business Insider, Inc.; Dr. h.c. Friede Springer.
20160023 | G | Trian Partners Co-Investment Opportunities Fund, LLC; General Electric Company; Trian Partners Co- Investment Opportunities Fund, LLC.
20160031 | G | Third Point Offshore Fund, Ltd.; Social Finance, Inc.; Third Point Offshore Fund, Ltd.
20160060 | G | Joe's Jeans Inc.; TCP RG, LLC; Joe's Jeans Inc.
20160063 | G | Ivy Holding Inc.; Eastern Connecticut Health Network, Inc.; Ivy Holding Inc.
20160068 | G | Aegon N.V.; Marsh & McLennan Companies, Inc; Aegon N.V.
20160072 | G | Kelso Investment Associates IX, L.P.; Kohlberg Management VII, L.P.; Kelso Investment Associates IX, L.P.
20160073 | G | Randal J. Kirk; Intrexon Corporation; Randal J. Kirk.
20160078 | G | John D. Grier; Chevron Corporation; John D. Grier.
20160083 | G | Agnaten SE; TSG5 L.P.; Agnaten SE.
20160084 | G | John R. Charman; Endurance Speciality Holdings Ltd.; John R. Charman.
20160086 | G | Buckeye Partners, L.P.; HOVENSA L.L.C.; Buckeye Partners, L.P.
10/26/2015
20160046 | G | Pandora Media, Inc.; Ticketfly, Inc.; Pandora Media, Inc.
20160049 | G | BDT Capital Partners Annex Fund, L.P. Annex Fund, L.P.; BDT Capital Partners Fund II-X, L.P.; BDT Capital Partners.
20160050 | G | BDT Capital Partners Fund II-X, L.P.; Fund II-X, L.P.; BDT Capital Partners Annex Fund, L.P.; BDT Capital Partners.
20160051 | G | BDT Capital Partners Fund II-X, L.P.; Fund II-X, L.P.; BDT Capital Partners Annex Fund I-A, L.P.; BDT Capital Partners.
20160052 | G | BDT Capital Partners Fund II-X, L.P.; Fund II-X, L.P.; BDT Capital Partners Fund II (INT), L.P.; BDT Capital Partners.
20160053 | G | BDT Capital Partners Fund II-X, L.P.; Fund II-X, L.P.; BDT Capital Partners Fund II (TE), L.P.; BDT Capital Partners.
20160054 | G | BDT Capital Partners Fund II-X, L.P.; II-X, L.P.; BDTCP Investments Fund II-X, L.P.; BDT Capital Partners Fund.
20160065 | G | Meritage Co-Investors LLC SERIES 3; Ron Fowler; Meritage Co-Investors LLC SERIES 3.
20160077 | G | Snow Phipps II, L.P.; CHS Private Equity V L.P.; Snow Phipps II, L.P.
20160082 | G | Golden Gate Capital Opportunity Fund, L.P.; The Phoenix Companies, Inc.; Golden Gate Capital Opportunity Fund, L.P.
20160038 | G | International Business Machines Corporation; Frank Selldorff; International Business Machines Corporation.
20160042 | G | QUALCOMM Incorporated; Sony Corporation; QUALCOMM Incorporated.
20160059 | G | Canfor Corporation; Anthony Family Property Holdings, Inc.; Canfor Corporation.
20160069 | G | International Business Machines Corporation; Cleversafe, Inc.; International Business Machines Corporation.
20160071 | G | Hainan Cihang Charitable Foundation; Avolon Holdings Limited; Hainan Cihang Charitable Foundation.
20160079 | G | Desmarais Family Residuary Trust; Eagle Creek Renewable Energy LLC; Desmarais Family Residuary Trust.
20160085 | G | EIF United States Power Fund IV, L.P.; WPX Energy, Inc.; EIF United States Power Fund IV, L.P.
10/28/2015
20151703 | G | ZF Friedrichshafen AG; Robert Bosch Industrietreuhand KG; ZF Friedrichshafen AG.
20160020 | G | Amsurg Corp.; Valley Anesthesiology Consultants, Ltd.; Amsurg Corp.
20160047 | G | Platinum Equity Capital Partners II, L.P.; American Electric Power Company, Inc.; Platinum Equity Capital Partners II, L.P.
20160089 | G | Rockland Power Partners II, L.P.; ArcLight Energy Partners Fund V, L.P.; Rockland Power Partners II, L.P.
10/30/2015
20160091 | G | AmerisourceBergen Corporation; Clayton, Dubilier & Rice Fund IX, L.P.; AmerisourceBergen Corporation.
20160095 | G | Treasury Wine Estates Limited; Diageo PLC; Treasury Wine Estates Limited.
20160103 | G | US Development Group LLC; Casper Crude to Rail Holdings, LLC; US Development Group LLC.
20160106 | G | Arbor Pharmaceuticals, Inc.; Sanofi; Arbor Pharmaceuticals, Inc.
20160107 | G | Audax Private Equity Fund IV, L.P.; BCP V Limited Partnership; Audax Private Equity Fund IV, L.P.
20160108 | G | JW Childs Equity Partners IV, L.P.; KeyImpact Holdings, Inc.; JW Childs Equity Partners IV, L.P.
20160110 | G | Clearlake Capital Partner IV, L.P.; Spiral Holdings Inc.; Clearlake Capital Partner IV, L.P.
20160122 | G | Henry Samueli; Pavonia Limited; Henry Samueli.
20160130 | G | Wellspring Capital Partners V, L.P.; GI Partners Fund III L.P.; Wellspring Capital Partners V, L.P.

FOR FURTHER INFORMATION CONTACT: Theresa Kingsberry, Program Support Specialist, Federal Trade Commission Premerger Notification Office, Bureau of Competition, Room CC-5301, Washington, DC 20024, (202) 326-3100.

By direction of the Commission.
Donald S. Clark,
Secretary.

[FR Doc. 2015-28858 Filed 11-13-15; 8:45 am]

BILLING CODE 6750-01-P